FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/address | Date reissued
000692F | A. R. Savage & Son, Inc., 701 Harbour Post Drive, Tampa, FL 33602 | May 27, 2009.
020815N | F.E.P.A. Enterprises, Inc., dba FEPA Logistics (USA), 17010 Buffalo Peak Court, Humble, TX 77346 | July 3, 2009.
004186N | Hanmi Shipping, Inc., 2694 Coyle Ave., Elk Grove Village, IL 60007 | July 10, 2009.

Sandra L. Kusumoto,
Director, Bureau of Certification and Licensing.

[FR Doc. E9-18881 Filed 8-5-09; 8:45 am]

BILLING CODE P